DEPARTMENT OF ENERGY

Federal Energy Regulatory Commission

Combined Notice of Filings #1

Take notice that the Commission received the following electric rate filings:

Docket Numbers: ER11-2657-012; ER19-2214-001; ER20-479-002; ER20-481-002; ER20-482-002; ER20-484-002; ER20-1650-003; ER22-1523-001; ER22-1549-001.

Applicants: Sun Streams PVS, LLC, Sun Streams 2, LLC, Little Bear Master Tenant, LLC, Little Bear Solar 5, LLC, Little Bear Solar 4, LLC, Little Bear Solar 3, LLC, Little Bear Solar 1, LLC, Milford Wind Corridor Phase I, LLC, Milford Wind Corridor Phase II, LLC.

Description: Triennial Market Power Analysis for Southwest Region of Milford Wind Corridor Phase II, LLC, et al.

Filed Date: 6/28/22.

Accession Number: 20220628-5175.

Comment Date: 5 p.m. ET 8/29/22.

Docket Numbers: ER18-2511-004.

Applicants: North Western Corporation.

Description: Market: Triennial Market Power Analysis for the Northwest Region to be effective N/A.

Filed Date: 6/29/22.

Accession Number: 20220629-5152.

Comment Date: 5 p.m. ET 8/29/22.

Docket Numbers: ER22-895-002.

Applicants: Southwest Power Pool, Inc.

Description: Tariff Amendment: 3908 T.

Filed Date: 6/29/22.

Accession Number: 20220629-5097.

Comment Date: 5 p.m. ET 7/20/22.

Docket Numbers: ER22-1470-001.

Applicants: Southwest Power Pool, Inc.

Description: Compliance filing: City Utilities of Springfield submits tariff filing per 35: City Utilities of Springfield, Missouri Compliance filing in ER22-1470 to be effective 6/1/2022.

Filed Date: 6/29/22.

Accession Number: 20220629-5109.

Comment Date: 5 p.m. ET 7/20/22.

Docket Numbers: ER22-1990-000.

Applicants: DTE Electric Company.

Description: Supplement to May 31, 2022 DTE Electric Company tariff filing.

Filed Date: 6/28/22.

Accession Number: 20220628-5056.

Comment Date: 5 p.m. ET 7/19/22.

Docket Numbers: ER22-2015-000.

Applicants: Tampa Electric Company.

Description: Supplemental Motion for Waiver of OATT Formula Rate Implementation Protocols Provision of Tampa Electric Company.

Filed Date: 6/27/22.

Accession Number: 20220627-5163.

Comment Date: 5 p.m. ET 7/7/22.

Docket Numbers: ER22-2190-001; ER13-1816-017; ER14-1594-005; ER14-1596-005; ER14-1934-006; ER14-1935-006; ER15-1020-004; ER20-242-003; ER20-245-003; ER20-246-003; ER22-2191-001; ER22-2192-001.

Applicants: EDPR Scarlet I LLC, EDPR CA Solar Park II LLC, Windhub Solar A, LLC, Sun Streams, LLC, Sunshine Valley Solar, LLC, Rising Tree Wind Farm III LLC, Rising Tree Wind Farm II LLC, Rising Tree Wind Farm LLC, Lone Valley Solar Park II LLC, Lone Valley Solar Park I LLC, Sustaining Power Solutions LLC, EDPR CA Solar Park LLC.

Description: Triennial Market Power Analysis for Southwest Region and Notice of Non-Material Change in Status of EDPR CA Solar Park LLC, et al.

Filed Date: 6/28/22.

Accession Number: 20220628-5174.

Comment Date: 5 p.m. ET 8/29/22.

Docket Numbers: ER22-2209-000.

Applicants: New York State Electric & Gas Corporation.

Description: § 205(d) Rate Filing: Rate Schedule FERC No. 87 Supplement to be effective 9/1/2022.

Filed Date: 6/28/22.

Accession Number: 20220628-5137.

Comment Date: 5 p.m. ET 7/19/22.

Docket Numbers: ER22-2210-000.

Applicants: Public Service Company of Colorado.

Description: § 205(d) Rate Filing: 2022-06-28-PSCo-CSU-WACM-666-0.0.0 to be effective 6/29/2022.

Filed Date: 6/28/22.

Accession Number: 20220628-5144.

Comment Date: 5 p.m. ET 7/19/22.

Docket Numbers: ER22-2211-000.

Applicants: Southwest Power Pool, Inc.

Description: § 205(d) Rate Filing: 2045R11 Evergy Kansas Central, Inc. NITSA NOA to be effective 9/1/2022.

Filed Date: 6/29/22.

Accession Number: 20220629-5002.

Comment Date: 5 p.m. ET 7/20/22.

Docket Numbers: ER22-2212-000.

Applicants: Southwest Power Pool, Inc.

Description: § 205(d) Rate Filing: 2900R18 KMEA NITSA NOA to be effective 9/1/2022.

Filed Date: 6/29/22.

Accession Number: 20220629-5006.

Comment Date: 5 p.m. ET 7/20/22.

Docket Numbers: ER22-2213-000.

Applicants: Southwest Power Pool, Inc.

Description: § 205(d) Rate Filing: 2562R11 Kansas Municipal Energy Agency NITSA and NOA to be effective 9/1/2022.

Filed Date: 6/29/22.

Accession Number: 20220629-5012.

Comment Date: 5 p.m. ET 7/20/22.

Docket Numbers: ER22-2214-000.

Applicants: Southwest Power Pool, Inc.

Description: § 205(d) Rate Filing: 1891R11 Evergy Kansas Central, Inc. NITSA NOA to be effective 9/1/2022.

Filed Date: 6/29/22.

Accession Number: 20220629-5017.

Comment Date: 5 p.m. ET 7/20/22.

Docket Numbers: ER22-2215-000.

Applicants: Southwest Power Pool, Inc.

Description: § 205(d) Rate Filing: 1892R11 Evergy Kansas Central, Inc. NITSA NOA to be effective 9/1/2022.

Filed Date: 6/29/22.

Accession Number: 20220629-5018.

Comment Date: 5 p.m. ET 7/20/22.

Docket Numbers: ER22-2216-000.

Applicants: Southwest Power Pool, Inc.

Description: § 205(d) Rate Filing: Revisions to Modify the Timing of the Day-Ahead Supply Adequacy Study to be effective 12/31/9998.

Filed Date: 6/29/22.

Accession Number: 20220629-5020.

Comment Date: 5 p.m. ET 7/20/22.

Docket Numbers: ER22-2217-000.

Applicants: Southwest Power Pool, Inc.

Description: § 205(d) Rate Filing: 1978R11 Evergy Kansas Central, Inc. NITSA NOA to be effective 9/1/2022.

Filed Date: 6/29/22.

Accession Number: 20220629-5028.

Comment Date: 5 p.m. ET 7/20/22.

Docket Numbers: ER22-2218-000.

Applicants: Southwest Power Pool, Inc.

Description: § 205(d) Rate Filing: 1894R11 Evergy Kansas Central, Inc. NITSA NOA to be effective 9/1/2022.

Filed Date: 6/29/22.

Accession Number: 20220629-5029.

Comment Date: 5 p.m. ET 7/20/22.

Docket Numbers: ER22-2219-000.

Applicants: Southwest Power Pool, Inc.

Description: § 205(d) Rate Filing: 2198R32 Kansas Power Pool NITSA NOA to be effective 9/1/2022.

Filed Date: 6/29/22.

Accession Number: 20220629-5034.

Comment Date: 5 p.m. ET 7/20/22.

Docket Numbers: ER22-2220-000.

Applicants: Southwest Power Pool, Inc.

Description: § 205(d) Rate Filing: 2415R17 Kansas Municipal Energy Agency NITSA and NOA to be effective 9/1/2022.

Filed Date: 6/29/22.

Accession Number: 20220629-5039.

Comment Date: 5 p.m. ET 7/20/22.

Docket Numbers: ER22-2222-000.

Applicants: Southwest Power Pool, Inc.

Description: § 205(d) Rate Filing: 1893R12 Evergy Kansas Central, Inc. NITSA NOA to be effective 9/1/2022.

Filed Date: 6/29/22.

Accession Number: 20220629-5046.

Comment Date: 5 p.m. ET 7/20/22.

Docket Numbers: ER22-2223-000.

Applicants: Lowell Cogeneration Company Limited Partnership.

Description: Tariff Amendment: Cancellation entire tariff to be effective 6/30/2022.

Filed Date: 6/29/22.

Accession Number: 20220629-5067.

Comment Date: 5 p.m. ET 7/20/22.

Docket Numbers: ER22-2224-000.

Applicants: Upper Missouri G. & T. Electric Cooperative, Inc.

Description: § 205(d) Rate Filing: Revised FERC Electric Tariff Vol. No. 1 to be effective 7/1/2022.

Filed Date: 6/29/22.

Accession Number: 20220629-5075.

Comment Date: 5 p.m. ET 7/20/22.

Docket Numbers: ER22-2225-000.

Applicants: Duke Energy Florida, LLC.

Description: § 205(d) Rate Filing: DEF-SECI RS No. 226 to be effective 9/1/2022.

Filed Date: 6/29/22.

Accession Number: 20220629-5089.

Comment Date: 5 p.m. ET 7/20/22.

Docket Numbers: ER22-2226-000.

Applicants: ISO New England Inc., New England Power Pool Participants Committee.

Description: § 205(d) Rate Filing: ISO New England Inc. submits tariff filing per 35.13(a)(2)(iii: ISO-NE/NEPOOL; Rev. to Modify Process for Interconnection of New DER to be effective 8/28/2022.

Filed Date: 6/29/22.

Accession Number: 20220629-5090.

Comment Date: 5 p.m. ET 7/20/22.

Docket Numbers: ER22-2227-000.

Applicants: California Independent System Operator Corporation.

Description: § 205(d) Rate Filing: 2022-06-29 EIM Entity Agreement—Avangrid to be effective 8/29/2022.

Filed Date: 6/29/22.

Accession Number: 20220629-5105.

Comment Date: 5 p.m. ET 7/20/22.

Docket Numbers: ER22-2228-000.

Applicants: Southwest Power Pool, Inc.

Description: § 205(d) Rate Filing: 2491R10 Evergy Kansas Central, Inc. NITSA NOA to be effective 9/1/2022.

Filed Date: 6/29/22.

Accession Number: 20220629-5116.

Comment Date: 5 p.m. ET 7/20/22.

Docket Numbers: ER22-2229-00.0

Applicants: Southwest Power Pool, Inc.

Description: § 205(d) Rate Filing: 2066R11 Evergy Kansas Central, Inc. NITSA NOA to be effective 9/1/2022.

Filed Date: 6/29/22.

Accession Number: 20220629-5125.

Comment Date: 5 p.m. ET 7/20/22.

Docket Numbers: ER22-2230-000.

Applicants: BigBeau Solar, LLC.

Description: Market: Triennial Market Power Update BigBeau Solar to be effective 8/29/2022.

Filed Date: 6/29/22

Accession Number: 20220629-5128.

Comment Date: 5 p.m. ET 8/29/22

Docket Numbers: ER22-2231-000.

Applicants: Maverick Solar 6, LLC.

Description: Market: Triennial Market Power Update Maverick Solar 6 to be effective 8/29/2022.

Filed Date: 6/29/22.

Accession Number: 20220629-5133.

Comment Date: 5 p.m. ET 8/29/22.

Docket Numbers: ER22-2232-000.

Applicants: Maverick Solar 7, LLC

Description: Market: Triennial Market Power Update Maverick Solar 7 to be effective 8/29/2022.

Filed Date: 6/29/22.

Accession Number: 20220629-5134.

Comment Date: 5 p.m. ET 8/29/22.

Docket Numbers: ER22-2233-000.

Applicants: Desert Harvest, LLC.

Description: Market: Triennial Market Power Update Desert Harvest to be effective 8/29/2022.

Filed Date: 6/29/22.

Accession Number: 20220629-5136.

Comment Date: 5 p.m. ET 8/29/22.

Docket Numbers: ER22-2234-000.

Applicants: Desert Harvest II LLC.

Description: Market: Triennial Market Power Update Desert Harvest II to be effective 8/29/2022.

Filed Date: 6/29/22.

Accession Number: 20220629-5141.

Comment Date: 5 p.m. ET 8/29/22.

Docket Numbers: ER22-2235-000.

Applicants: Maverick Solar, LLC.

Description: Market: Triennial Market Power Update Maverick Solar to be effective 8/29/2022.

Filed Date: 6/29/22.

Accession Number: 20220629-5146.

Comment Date: 5 p.m. ET 8/29/22.

Docket Numbers: ER22-2236-000.

Applicants: Maverick Solar 4, LLC.

Description: Market: Triennial Market Power Update Maverick Solar 4 to be effective 8/29/2022.

Filed Date: 6/29/22.

Accession Number: 20220629-5150.

Comment Date: 5 p.m. ET 8/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2022.
Debbie-Anne A. Reese,
Deputy Secretary.

[FR Doc. 2022-14327 Filed 7-5-22; 8:45 am]

BILLING CODE 6717-01-P